DEPARTMENT OF COMMERCE

Foreign-Trade Zones Board

[Order No. 1751]

Approval for Subzone Expansion and Expansion of Manufacturing Authority; Foreign-Trade Subzone 29F; Hitachi Automotive Systems Americas, Inc. (Automotive Components); Harrodsburg, KY

Pursuant to its authority under the Foreign-Trade Zones Act of June 18, 1934, as amended (19 U.S.C. 81a-81u), the Foreign-Trade Zones Board (the Board) adopts the following Order:

Whereas, the Louisville and Jefferson County Riverport Authority, grantee of Foreign-Trade Zone 29, has requested an expansion of the subzone and the scope of manufacturing authority on behalf of Hitachi Automotive Systems Americas, Inc. (Hitachi), operator of Subzone 29F at the Hitachi facility in Harrodsburg, Kentucky (FTZ Docket 38-2010, filed 5-20-2010);

Whereas, notice inviting public comment has been given in the Federal Register (75 FR 29723-29724, 5-27-2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand the subzone and the scope of manufacturing authority under zone procedures within Subzone 29F, as described in the application and Federal Register notice, is approved, subject to the FTZ Act and the Board's regulations, including Section 400.28.

Signed at Washington, DC this 31st day of March 2011.
Ronald K. Lorentzen,
Deputy Assistant Secretary for Import Administration, Alternate Chairman, Foreign-Trade Zones Board.
Andrew McGilvray,
Executive Secretary.

[FR Doc. 2011-8448 Filed 4-7-11; 8:45 am]

BILLING CODE 3610-DS-P